DEPARTMENT OF ENERGY

Federal Energy Regulatory Commission

[Project No. 696-013—Utah]

PacifiCorp; Notice of Availability of Environmental Assessment

November 26, 2003.

In accordance with the National Environmental Policy Act of 1969 and the Federal Energy Regulatory Commission's (Commission) regulations, 18 CFR part 380 (Order No. 486, 52 FR 47897), the Office of Energy Projects has reviewed the application for surrender of the license for the American Fork Hydroelectric Project and has prepared an Environmental Assessment (EA) for the project. The project is located on American Fork Creek, near the City of American Fork, about three miles east of Highland, in Utah County, Utah. The project occupies about 28.8 acres of land within the Uinta National Forest, administered by the U.S. Forest Service (FS) and approximately 2,000 feet of the project's flowline passes through the Timpanogos Cave National Monument, administered by the U.S. Department of the Interior, National Park Service (NPS).

The EA contains the staff's analysis of the potential environmental impacts of the project and concludes that surrendering the project, with the appropriate environmental protective measures, would not constitute a major federal action that would significantly affect the quality of the human environment.

The EA is on file with the Commission and is available for public inspection. Copies of the EA are available for review in Public Reference, Room 2-A at the Commission's offices at 888 First Street, NE, Washington, DC. The EA may also be viewed on the Commission's Web site at http://www.ferc.gov using the ``eLibrary'' link. For assistance, contact FERC On Line Support at FERCOnlineSupport@ferc.gov or call toll free at (866) 208-3676, or for TTY contact (202) 502-8659.

Any comments should be filed within 45 days from the date of this notice and should be addressed to Magalie R. Salas, Secretary, Federal Energy Regulatory Commission, 888 First Street, NE., Washington, DC 20426. Please reference Project No. 696-013 on all comments. Comments may be filed electronically via the Internet in lieu of paper. See 18 CFR 385.2001(a)(1)(iii) and the instructions on the Commission's Web site under the ``eFiling''link.

For further information, please contact Kenneth Hogan at (202) 502-8434.
Magalie R. Salas,
Secretary.

[FR Doc. E3-00433 Filed 12-2-03; 8:45 am]

BILLING CODE 6717-01-P